DEPARTMENT OF TRANSPORTATION

Office of the Secretary of Transportation

[Docket No. DOT-OST-2018-0108]

Vendor and Grantee Invoice Submission Process Change

AGENCY: U.S. Department of Transportation (DOT).

ACTION: Notice of enforced change with request for comments.

SUMMARY: The DOT invites the public and other Federal agencies to comment on a proposed vendor invoice submission change. DOT will submit the proposed information collection request to the Office of Management and Budget (OMB) for review, as required by the Paperwork Reduction Act. This notice sets forth new processes and procedures for vendors and grantees that submit invoices and receive payments for DOT Operating Administrations (OAs). Existing users of DOT's eInvoicing system, including grantees and vendors, will also be required to use Login.gov. DOT's objective is to improve efficiency and reduce unnecessary burden on vendors and grantees by eliminating existing manual processes for invoice entry, invoice approvals and user registration to reduce costs, increase timeliness of payments, and improve data quality. Introducing e-authentication to facilitate user validation and account management will greatly reduce the burden on vendors and grantees by eliminating the current paper based registration process. This electronic invoicing process is currently used by DOT's grantee community and was successfully piloted to select vendors.

DATES: Comments must be submitted on or before September 24, 2018.

FOR FURTHER INFORMATION CONTACT: Requests for additional information should be directed to the U.S. Department of Transportation, Office of Financial Management, B-30, Room W98-431, 1200 New Jersey Avenue SE, Washington DC 20590-0001, Anthony Chestnut, (202) 366-9661, DOTElectronicInvoicing@dot.gov.

SUPPLEMENTARY INFORMATION:

OMB Control Number: 2105-0564.

Type of Request: Revision to previously approved information collection.

Background: This notice sets forth new processes and procedures for existing and future vendors and grantees that submit invoices and receive payments from DOT Operating Administrations (OAs). The vendors and grantees involved must meet the following requirements to participate:

• Vendors and grantees will need to have electronic internet access to register in GSA Login.gov and login into Delphi eInvoicing system.

• The identities of system users will be verified prior to receiving access to the Delphi eInvoicing system. Information required for Login.gov includes his/her email address, full name, phone number, and password.

• System users will Register with and Create an account with GSA Login.gov. System users will provide his/her email address and receive an email back to confirm. They will then create a password and input a telephone number and opt to receive either a personal call from Login.gov or text message with an authentication code.

• Once the system user is authenticated, he/she will complete a System Access Request for Delphi eInvoicing system. The users will provide the following information: Full name, office phone number, work email address, vendor name, purchase order (contract or grant award) numbers, and agency doing business with. System users will provide the form to DOT to finalize the access.

• Once access is complete, vendors will submit invoices electronically and DOT OAs will process invoices electronically.

Affected Public: All Current and Future DOT Vendors and grantees.

Total Estimated Number of Respondents: Greater than 5,000.

Total Estimated Number of Responses: Greater than 5,000.

Estimated Total Annual Burden Hours: 500 (Initial Registration Only Calculated at 5 Minutes per).

Frequency of Collection: One Time.

Annual Estimated Total Annual Burden Costs: $5,000.

Public Comments Invited: You are asked to comment on any aspect of this information collection, including (a) whether the proposed collection of information is necessary for the Department's performance; (b) the accuracy of the estimated burden; (c) ways for the Department to enhance the quality, utility, and clarity of the information collection; and (d) ways that the burden could be minimized without reducing the quality of the collected information.

Authority: The Paperwork Reduction Act of 1995, 44 U.S.C. 3501-3520, as amended.

Issued in Washington, DC, on July 24, 2018.
Jennifer Funk,
Acting, Deputy Chief Financial Officer, Department of Transportation.

[FR Doc. 2018-16089 Filed 7-26-18; 8:45 am]

BILLING CODE 4910-9X-P